DEPARTMENT OF ENERGY

Federal Energy Regulatory Commission

Combined Notice of Filings #1

Take notice that the Commission received the following electric rate filings:

Docket Numbers: ER17-1054-002.

Applicants: PSEG Energy Resources & Trade LLC.

Description: Tariff Amendment: Cancellation of certain tariff records in compliance with FERC Staff to be effective 1/7/2016.

Filed Date: 4/28/17.

Accession Number: 20170428-5469.

Comments Due: 5 p.m. ET 5/19/17.

Docket Numbers: ER17-1507-000.

Applicants: Tucson Electric Power Company.

Description: § 205(d) Rate Filing: Amendment to Rate Schedule No. 321, SRSG Participation Agreement to be effective 6/28/2017.

Filed Date: 4/28/17.

Accession Number: 20170428-5470.

Comments Due: 5 p.m. ET 5/19/17.

Docket Numbers: ER17-1508-000.

Applicants: Golden Spread Electric Cooperative, Inc.

Description: § 205(d) Rate Filing: OATT Attachment R Amendment to be effective 6/27/2017.

Filed Date: 5/1/17.

Accession Number: 20170501-5001.

Comments Due: 5 p.m. ET 5/22/17.

Docket Numbers: ER17-1509-000.

Applicants: Pacific Gas and Electric Company.

Description: § 205(d) Rate Filing: Q1 2017 Quarterly Filing of City and County of San Francisco's WDT SA (SA 275) to be effective 3/31/2017.

Filed Date: 5/1/17.

Accession Number: 20170501-5002.

Comments Due: 5 p.m. ET 5/22/17.

Docket Numbers: ER17-1510-000.

Applicants: Louisville Gas and Electric Company.

Description: § 205(d) Rate Filing: KyMEA NITSA NOA to be effective 5/1/2017.

Filed Date: 5/1/17.

Accession Number: 20170501-5079.

Comments Due: 5 p.m. ET 5/22/17.

Docket Numbers: ER17-1511-000.

Applicants: Louisville Gas and Electric Company.

Description: Tariff Cancellation: Benham Notice of Cancellation to be effective 5/1/2017.

Filed Date: 5/1/17.

Accession Number: 20170501-5110.

Comments Due: 5 p.m. ET 5/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2017.
Kimberly D. Bose,
Secretary.

[FR Doc. 2017-09114 Filed 5-4-17; 8:45 am]

BILLING CODE 6717-01-P